DEPARTMENT OF STATE

[Public Notice: 7150]

60-Day Notice of Proposed Information Collection: DS-7656; Affidavit of Relationship (AOR); OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Affidavit of Relationship (AOR)

• OMB Control Number: None.

• Type of Request: New Collection.

• Originating Office: Office of Admissions, Bureau of Population, Refugees and Migration (PRM/A)

• Form Number: DS-7656.

• Respondents: Persons admitted to the United States as refugees or granted asylum in the United States who are claiming a relationship with family members overseas (spouses, unmarried children under age 21, and/or parents) in order to assist the U.S. Government in determining whether those family members are qualified to apply for admission to the United States via the U.S. Refugee Admissions Program under the family reunification access priority.

• Estimated Number of Respondents: 3,500 annually.

• Estimated Number of Responses: 3,500.

• Average Hours per Response: 45 minutes.

• Total Estimated Burden: 2,625 hours.

• Frequency: On occasion.

• Obligation to Respond: Required to obtain or retain a benefit.

DATES: The Department will accept comments from the public up to 60 days from September 9, 2010.

ADDRESSES: You may submit comments by any of the following methods:

• E-mail: SpruellDA@state.gov (Subject line must read: DS-7656 AOR).

• Mail (paper, disk, or CD-ROM submissions): Delicia Spruell, PRM/A, U.S. Department of State, SA-9, 8th floor, 2201 C Street, NW., Washington, DC 20522-0908. You must include the DS form number, information collection title, and OMB control number in any correspondence.

FOR FURTHER INFORMATION CONTACT: Direct requests for additional information regarding the collection listed in this notice, including requests for copies of the proposed information collection and supporting documents, to Delicia Spruell, PRM/A, U.S. Department of State, SA-9, 8th floor, 2201 C Street, NW., Washington, DC 20522-0908, at SpruellDA@state.gov or at 202-453-9257.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Affidavit of Relationship (AOR) will be required by the Department of State to establish qualifications for access to the Priority 3 Family Reunification category of the United States Refugee Admissions Program (USRAP) by persons of certain nationalities who are family members of qualifying “anchors” (persons already admitted to the U.S. as refugees or who were granted asylum in the U.S., including persons who may now be lawful permanent residents or U.S. citizens). Qualifying family members of U.S.-based anchors include spouses, unmarried children under age 21, and parents. Eligible nationalities are determined on an annual basis following careful review of several factors, including the United Nations High Commissioner for Refugees' annual assessment of refugees in need of resettlement, prospective or ongoing repatriation efforts, and U.S. foreign policy interests. The Priority 3 category, along with the other categories of cases that have access to USRAP, is outlined in the annual Proposed Refugee Admissions—Report to Congress, which is submitted on behalf of the President in fulfillment of the requirements of Section 207(e)(1)-(7) of the Immigration and Nationality Act, and authorized by the annual Presidential Determination for Refugee Admissions. The Priority 3—Family Reunification category has been suspended since 2008 while PRM and the Department of Homeland Security's U.S. Citizenship and Immigration Services (DHS/USCIS) have examined how additional procedures may be incorporated into P-3 processing to address indications of a high incidence of fraud in the program. PRM and DHS/USCIS are now preparing to resume the program. Having an Affidavit of Relationship filed on a potential applicant's behalf by an eligible anchor relative will be one of the criteria for access to this program. The AOR also informs the anchor relative that DNA evidence of all claimed parent-child relationships between the anchor relative and parents and/or unmarried children under 21 will be required as a condition of access to P-3 processing and that the costs will be borne by the anchor relative or their family members who may apply for access to refugee processing, or their derivative beneficiaries, as the case may be. Successful applicants may be eligible for reimbursement of DNA test costs.

Methodology: Information for the Affidavit of Relationship (AOR) will be collected in person by resettlement agencies around the United States, which are organizations that work under cooperative agreements with the Department of State. Filing an AOR will provide a means for individuals who were admitted to the United States as refugees or who were granted asylum to claim a relationship with certain family members that would qualify them to apply for access to refugee processing under the Priority 3 category of the U.S. Refugee Admissions Program. In order to file an AOR, an individual will have to be at least 18 years of age and have been admitted to the United States as a refugee or granted asylum in the United States no more than five years prior to the filing of this AOR.

The resettlement agencies will then forward the completed AORs to the Department of State's Refugee Processing Center (RPC) for data entry and case processing. DHS/USCIS will conduct an initial review of the AOR, including a check against information on record from previous filings by the anchor relative. Those AORs that are cleared for onward processing are forwarded to the appropriate Department of State-funded Overseas Processing Entity (OPE) to conduct preliminary “prescreening” interviews of the claimed family members. After the preliminary interviews, the OPE will provide the anchor relative with instructions on procedures for arranging DNA testing of claimed biological parent-child relationships through a laboratory approved by the American Association of Blood Banks (AABB) to conduct DNA relationship testing. DNA samples from the claimed biological parents and/or children of the anchor relative will be collected by designated panel physicians overseas and returned to the AABB-approved lab selected by the anchor relative. The Department of State will not retain the DNA samples. Redacted results received from the lab, which will indicate only whether each tested relationship was confirmed or not confirmed will be retained. The Privacy Impact Assessment for this collection will be posted on the Department of State website.

Dated: July 7, 2010.
David M. Robinson,
Principal Deputy Assistant Secretary, Bureau of Population, Refugees and Migration, Department of State.

[FR Doc. 2010-22354 Filed 9-7-10; 8:45 am]

BILLING CODE 4710-33-P